DEPARTMENT OF HOMELAND SECURITY

Federal Emergency Management Agency

[Docket ID: FEMA-2013-0015]

RIN 1660-AA79

Notice of Adjustment of Legitimate Amount in Dispute for the Dispute Resolution Pilot Program for Public Assistance Appeals

AGENCY: Federal Emergency Management Agency, DHS.

ACTION: Notice.

SUMMARY: FEMA gives notice of an increase of the legitimate amount in dispute for the Dispute Resolution Pilot Program for Public Assistance Appeals for disasters declared on or after October 30, 2012.

DATES: Effective Date: August 17, 2015.

FOR FURTHER INFORMATION CONTACT: William Roche, Public Assistance Division Director, Recovery Directorate, Federal Emergency Management Agency, 500 C Street SW., Washington, DC 20472-3100, Phone: (202) 646-3834 or Email: william.roche@fema.dhs.gov.

SUPPLEMENTARY INFORMATION: The Sandy Recovery Improvement Act of 2013, Public Law 113-2, 127 Stat. 43 (Jan. 29, 2013), 42 U.S.C. 5189a note, prescribes that the Administrator shall annually adjust the legitimate amount in dispute under the Dispute Resolution Pilot Program to reflect changes in the Consumer Price Index for all Urban Consumers published by the Department of Labor. See 44 CFR 206.210(c)(1).

FEMA gives notice of an increase in the legitimate amount in dispute under the Dispute Resolution Pilot Program for Public Assistance Appeals to $1,031,000 for all disasters declared on or after October 30, 2012.

FEMA bases the adjustment on an increase in the Consumer Price Index for All Urban Consumers provided by The Bureau of Labor Statistics of the U.S. Department of Labor. The sum of the annual average percent change from the two previous years (2013 and 2014) used in the adjustment is 3.1 percent.

Dated: June 15, 2015.
W. Craig Fugate,
Administrator, Federal Emergency Management Agency.

[FR Doc. 2015-17068 Filed 8-14-15; 8:45 am]

BILLING CODE 9111-123-P